DEPARTMENT OF VETERANS AFFAIRS

[OMB Control No. 2900-0049]

Agency Information Collection Activity Under OMB Review: Request Fork Approval of School Attendance and School Attendance Report

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by November 20, 2024.

ADDRESSES: To submit comments and recommendations for the proposed information collection, please type the following link into your browser: www.reginfo.gov/public/do/PRAMain, select “Currently under Review—Open for Public Comments”, then search the list for the information collection by Title or “OMB Control No. 2900-0049.”

FOR FURTHER INFORMATION CONTACT: VA PRA information: Maribel Aponte, 202-461-8900, vacopaperworkreduact@va.gov

SUPPLEMENTARY INFORMATION: Title: Request for Approval of School Attendance (VA Forms 21-674 and 21-674c) and School Attendance Report (VA Form 21-674b).

OMB Control Number: 2900-0049 https://www.reginfo.gov/public/do/PRASearch.

Type of Review: Revision of a currently approved collection.

Abstract: VA Forms 21-674 and 21-674c are used to gather information that is necessary to determine benefit entitlement to or for a veteran's child between the ages of 18 and 23 who is attending school. VA Form 21-674b is used to verify the school attendance of a child who is receiving benefits or for whom benefits are being received. Without this information, VA would be unable to properly authorize benefits for school attendance. No changes have been made to these forms. The respondent burden has increased due to the estimated number of receivables averaged over the past year.

An agency may not conduct or sponsor, and a person is not required to respond to a collection of information unless it displays a currently valid OMB control number. The Federal Register Notice with a 60-day comment period soliciting comments on this collection of information was published at insert citation date: 89 FR 66506, August 15, 2024.

Affected Public: Individuals or Households.

Estimated Annual Burden: 15,862 hours.

Estimated Average Burden per Respondent: 12 minutes.

Frequency of Response: One time.

Estimated Number of Respondents: 79,310.

(Authority: 44 U.S.C. 3501 et seq.)

Maribel Aponte,
VA PRA Clearance Officer, Office of Enterprise and Integration, Data Governance Analytics, Department of Veterans Affairs.

[FR Doc. 2024-24235 Filed 10-18-24; 8:45 am]

BILLING CODE 8320-01-P